DEPARTMENT OF THE INTERIOR

National Park Service

[NPS-WASO-NAGPRA-NPS0032655; PPWOCRADN0-PCU00RP14.R50000]

Notice of Inventory Completion: California State University, Sacramento, Sacramento, CA

AGENCY: National Park Service, Interior.

ACTION: Notice.

SUMMARY: The California State University, Sacramento has completed an inventory of associated funerary objects, in consultation with the appropriate Indian Tribes or Native Hawaiian organizations, and has determined that there is a cultural affiliation between the associated funerary objects and present-day Indian Tribes or Native Hawaiian organizations. Lineal descendants or representatives of any Indian Tribe or Native Hawaiian organization not identified in this notice that wish to request transfer of control of these associated funerary objects should submit a written request to the California State University, Sacramento. If no additional requestors come forward, transfer of control of the associated funerary objects to the lineal descendants, Indian Tribes, or Native Hawaiian organizations stated in this notice may proceed.

DATES: Lineal descendants or representatives of any Indian Tribe or Native Hawaiian organization not identified in this notice that wish to request transfer of control of these associated funerary objects should submit a written request with information in support of the request to the California State University, Sacramento at the address in this notice by October 27, 2021.

FOR FURTHER INFORMATION CONTACT: Dr. Dianne Hyson, Dean of the College of Social Sciences and Interdisciplinary Studies, California State University, Sacramento, 6000 J Street Sacramento, CA 95819, telephone (916) 278-6504, email dhyson@csus.edu.

SUPPLEMENTARY INFORMATION: Notice is here given in accordance with the Native American Graves Protection and Repatriation Act (NAGPRA), 25 U.S.C. 3003, of the completion of an inventory of associated funerary objects under the control of the California State University, Sacramento, Sacramento, CA. The associated funerary objects were removed from CA-SAC-16 (also known as the Bennett Mound, Willey Mound, or Mound Ranch) in Sacramento County, CA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the associated funerary objects was made by the California State University, Sacramento professional staff in consultation with representatives of the Buena Vista Rancheria of Me-Wuk Indians of California; Ione Band of Miwok Indians of California; Kletsel Dehe Band of Wintun Indians [previously listed as Cortina Indian Rancheria]; Shingle Springs Band of Miwok Indians, Shingle Springs Rancheria (Verona Tract), California; United Auburn Indian Community of the Auburn Rancheria of California; and two non-federally recognized Indian groups, the Miwok Tribe of El Dorado Rancheria and the Nashville-Eldorado Rancheria. The Wilton Rancheria, California and the Yocha Dehe Wintun Nation, California [previously listed as Rumsey Indian Rancheria of Wintun Indians of California] were invited to consult but did not participate. Hereafter, all the above entities are referred to as “The Consulted and Invited Tribes and Groups.”

History and Description of the Associated Funerary Objects

On March 15, 2011, human remains and associated funerary objects from site CA-SAC-16 in Sacramento County, CA, were listed in a Notice of Inventory Completion published in the Federal Register (76 FR 14052-14054, March 15, 2011). Subsequently, these human remains and objects were repatriated to the Shingle Springs Band of Miwok Indians, Shingle Springs Rancheria (Verona Tract), California. Following repatriation, 428 additional funerary objects associated with the previously repatriated human remains were found in the collections of California State University, Sacramento. They include 425 associated funerary objects from the 1971 Sacramento State College excavation led by Ann Peak and three associated funerary objects from the 1960s American River College excavations directed by Charles Gebhardt (which had been transferred from American River College to California State University Sacramento). The 425 funerary objects from the 1971 excavation are one lot of ash, 11 pieces of baked clay, two shell beads, four lots of charcoal, two pieces of debitage, one edge modified flake, one groundstone fragment, nine invertebrate remains, two pieces of historic metal, two shell ornaments, one unmodified stone, 17 thermally altered rocks, two bird bone tubes, and 370 faunal remains. The three funerary objects from the 1960s excavations are two shell beads and one animal bone.

Temporally diagnostic artifacts recovered from CA-SAC-16 indicate that the site was used from the Middle Horizon up until the early Historic Period. Linguistic evidence suggests that ancestral-Penutian speaking groups related to modern day Miwok, Nisenan, and Patwin groups occupied the region during the Middle (550 B.C.—A.D. 1100) and Late (A.D. 1100—Historic) Horizons, while ethnohistoric and ethnographic sources indicate that the site was most likely historically occupied by Nisenan-speaking groups. Consequently, officials of California State University, Sacramento reasonably believe that the ethnographic, historical, and geographical evidence indicates that the burials and cultural items recovered from Site CA-SAC-16 are most closely affiliated with contemporary descendants of the Nisenan, and have more distant ties to neighboring groups, such as the Plains Miwok and Patwin.

Determinations Made by the California State University, Sacramento

Officials of the California State University, Sacramento have determined that:

• Pursuant to 25 U.S.C. 3001(3)(A), the 428 objects described in this notice are reasonably believed to have been placed with or near individual human remains at the time of death or later as part of the death rite or ceremony.

• Pursuant to 25 U.S.C. 3001(2), there is a relationship of shared group identity that can be reasonably traced between the associated funerary objects and the Buena Vista Rancheria of Me-Wuk Indians of California; Ione Band of Miwok Indians of California; Shingle Springs Band of Miwok Indians, Shingle Springs Rancheria (Verona Tract), California; United Auburn Indian Community of the Auburn Rancheria of California; and the Wilton Rancheria, California (hereafter referred to as “The Tribes”).

Additional Requestors and Disposition

Lineal descendants or representatives of any Indian Tribe or Native Hawaiian organization not identified in this notice that wish to request transfer of control of these associated funerary objects should submit a written request with information in support of the request to Dr. Dianne Hyson, Dean of the College of Social Sciences and Interdisciplinary Studies, California State University, Sacramento, 6000 J Street, Sacramento, CA 95819, telephone (916) 278-6504, email dhyson@csus.edu, by October 27, 2021. After that date, if no additional requestors have come forward, transfer of control of the associated funerary objects to The Tribes may proceed. If joined to a request from one or more of The Tribes, the following non-federally recognized Indian groups may also receive transfer of control of the human remains and associated funerary objects: The Miwok Tribe of El Dorado Rancheria and the Nashville-Eldorado Rancheria.

The California State University, Sacramento is responsible for notifying The Consulted and Invited Tribes and Groups that this notice has been published.

Dated: September 21, 2021.
Melanie O'Brien,
Manager, National NAGPRA Program.

[FR Doc. 2021-20913 Filed 9-24-21; 8:45 am]

BILLING CODE 4312-52-P